DEPARTMENT OF TRANSPORTATION

Coast Guard

[CGDB-01-010]

Houston/Galveston Navigation Safety Advisory Committee Meeting

AGENCY: Coast Guard, DOT.

ACTION: Notice of meetings.

SUMMARY: The Houston/Galveston Navigation Safety Advisory Committee (HOGANSAC) and its working committee will meet to discuss waterway improvements, aids to navigation, Houston/Galveston-area projects impacting safety on the Houston Ship Channel, and various other navigation safety matters in the Houston/Galveston area. All meetings will be open to the public.

DATES: The next meeting of HOGANSAC will be held on Thursday, May 24, 2001 from 9:00 a.m. to approximately 12:00 p.m. The meeting of the Committee's working groups will be held on Thursday, May 10, 2001 at 9:00 a.m. The meetings may adjourn early if all business is finished. Members of the public may present written or oral statements at either meeting.

ADDRESSES: The full Committee meeting will be held at the offices of the Houston Pilots. The pilot office is located at 8150 South Loop East, Houston, Texas. The working group meeting will be held at the Houston Yacht Club, 3620 Miramar Drive, Shoreacres, Texas.

FOR FURTHER INFORMATION CONTACT: Captain Wayne Gusman, Executive Director of HOGANSAC, telephone (713) 671-5164.

SUPPLEMENTARY INFORMATION: Notice of this meeting is given pursuant to the Federal Advisory Committee Act, 5 U.S.C. App. 2.

Agendas of the Meetings

Houston/Galveston Navigation Safety Advisory Committee (HOGANSAC)

The tentative agenda includes the following:

(1) Opening remarks by the Committee Sponsor (RADM Castro) (or the Committee Sponsor's representative), Executive Director (CAPT Gusman) and Chairman (Tim Leitzell).

(2) Approval of the January 25, 2001 minutes.

(3) Old Business

(a) Dredging projects.

(b) Electronic navigation.

(c) AtonN Knockdown Working Group.

(d) Facility Information Guide.

(e) Recreational boater education initiative.

(f) TNRCC Clean Air Rules and Plans for Houston/Galveston.

(g) FPSO update.

(h) Mooring subcommittee report.

(i) Frequency Congestion workgroup report.

(4) New Business.

(a) Membership solicitation.

Working Committee Meeting

The tentative agenda for the working committee meeting includes the following:

(1) Presentation by each work group of its accomplishments and plans for the future.

(2) Review and discuss the work completed by each work group. Work groups have been formed to examine the following issues: dredging and related issues, electronic navigation systems, AtoN knockdowns, VTS radio frequency congestion, impact of passing vessels on moored ships, recreational boater education issues. All work groups may not necessarily report out at this session. Further, work group reports may not necessarily include discussions on all issues within the particular work group's area of responsibility. All meetings are open to the public. Please note that the meetings may adjourn early if all business is finished. Members of the public may make presentations, oral or written, at either meeting.

Information on Service for the Handicapped

For information on facilities or services for the handicapped or to request special assistance at the meetings, contact the Executive Director or Executive Secretary.

Dated: April 26, 2001.
Paul J. Pluta,
Rear Admiral, U.S. Coast Guard, Commander, Eight Coast Guard District.

[FR Doc. 01-11492 Filed 5-7-01; 8:45 am]

BILLING CODE 4910-15-M